DEPARTMENT OF HEALTH AND HUMAN SERVICES

Office of National AIDS Policy; Notice of Meeting of the Presidential Advisory Council on HIV/AIDS and its Subcommittees

January 15, 2000.

Pursuant to P.L. 92-463, notice is hereby given of the meeting of the Presidential Advisory Council on HIV/AIDS that was previously scheduled on February 13-15, 2000, at the Radisson-Barcelo, Washington, D.C. has been re-scheduled for March 19-21, 2000. The meeting of the Presidential Advisory Council on HIV/AIDS will take place on Monday, March 20, and Tuesday, March 21, and Tuesday, (8:30 a.m. to 6 p.m. on Monday and Tuesday) at the Radisson-Barcelo, 2121 P Street, NW, Washington, D.C. 20037. The meetings will be open to the public.

The purpose of the subcommittee meetings will be to finalize any recommendations and assess the status of previous recommendations made to the Administration. The agenda of the Presidential Advisory Council on HIV/AIDS may include presentations from the Council's subcommittees, Appropriations, Discrimination, International, Prevention, Prison, Racial Ethnic Populations, Research, and Services Issues.

Daniel C. Montoya, Executive Director, Presidential Advisory Council on HIV and AIDS, Office of National AIDS Policy, 736 Jackson Place, NW, Washington, DC 20503, Phone (202) 456-2437, Fax (202) 456-2438, will furnish the meeting agenda and roster of committee members upon request. Any individual who requires special assistance, such as sign language interpretation or other reasonable accommodations, should contact Andrea Hall at (301) 986-4870 no later than February 29, 2000.

Daniel C. Montoya,
Executive Director, Presidential Advisory Council on HIV and AIDS.

[FR Doc. 00-2726 Filed 2-8-00; 8:45 am]

BILLING CODE 3195-01-M